DEPARTMENT OF DEFENSE

Department of the Army

Programmatic Environmental Assessment of Multi-Domain Task Force Stationing

AGENCY: Department of the Army, DoD.

ACTION: Notice of availability.

SUMMARY: The Department of the Army (Army) completed a programmatic environmental assessment (PEA) regarding the impacts of stationing a Multi-Domain Task Force (MDTF) at 13 existing Army garrisons and joint bases, and is encouraging community participation in this process. The Army is making the PEA and a draft finding of no significant impact (FONSI) available for public comment. The PEA determined the environmental and socioeconomic impacts that would result from the Proposed Action would be either less than significant or significant but mitigable at all of the considered locations. The draft FONSI concluded that an environmental impact statement (EIS) is not required. Unless other significant impacts are brought to the Army's attention during public review of the PEA, the Army will finalize the PEA and FONSI and will not prepare an EIS.

DATES: Comments must be received by July 22, 2022 to be considered in the PEA process.

ADDRESSES: Please mail written comments to: U.S. Army Environmental Command, ATTN: MDTF Public Comments, 2455 Reynolds Road, Mail Stop 112, JBSA-Fort Sam Houston, TX 78234-7588. You can also email written comments to: usarmy.jbsa.imcom-aec.mbx.nepa@army.mil, with “MDTF Public Comments” in the subject line.

FOR FURTHER INFORMATION CONTACT: Ms. Cathy Kropp, U.S. Army Environmental Command Public Affairs Office, by phone at (210) 466-1590 or (210) 488-6061, or by email at usarmy.jbsa.imcom-aec.mbx.public-mailbox@army.mil.

SUPPLEMENTARY INFORMATION: The Army prepared this PEA in accordance with: the National Environmental Policy Act of 1969 (NEPA) (title 42, section 4321, U.S. Code); Council on Environmental Quality (CEQ) NEPA regulations (title 40, parts 1500 through 1508, Code of Federal Regulations (CFR)); and the Army regulation implementing NEPA, 32 CFR part 651.

The purpose of the Proposed Action is to support the Joint Force (i.e., all U.S. military services)—plus our allies—in the rapid and continuous integration of all domains of warfare: land, sea, air, space, and cyberspace. The Army proposes to station MDTFs at Army garrisons and joint bases so the MDTFs can quickly deploy to any theater of operations where they are needed.

The PEA and the draft FONSI evaluated the following installations: Fort Bliss, Texas; Fort Bragg, North Carolina; Fort Campbell, Kentucky; Fort Carson, Colorado; Fort Drum, New York; Fort Hood, Texas; Fort Knox, Kentucky; Fort Riley, Kansas; Fort Stewart, Georgia; Joint Base Lewis-McChord (JBLM), Washington; Joint Base Elmendorf-Richardson, Alaska; U.S. Army Garrison (USAG)-Hawai'i (Schofield Barracks and Helemano Military Reservation); and Fort Wainwright, Alaska.

The PEA examined two MDTF alternatives: the full MDTF, which consists of approximately 3,000 soldiers; and the base MDTF, which consists of headquarters elements and approximately 400 soldiers. The PEA looks at only the base MDTF for Garrison (USAG)-Hawai'i.

The Army initiated temporary MDTF pilot projects at JBLM and at USAG-Hawai`i. The Army established a temporary, full MDTF configuration at JBLM and a temporary, base MDTF configuration at USAG-Hawai'i.

Although the Army developed MDTF personnel and facility requirements, MDTF weapon system training doctrine is under development and is therefore unavailable at this time. The PEA did not analyze any MDTF training activities. When the Army finalizes its MDTF weapon system training doctrine, the Army will compare these doctrinal requirements against other, existing, ongoing training requirements to determine if a specific installation must conduct additional environmental analysis before the installation receives an MDTF.

The PEA and the input received during the public comment period will provide decision-makers with the information necessary to evaluate the potential environmental and socioeconomic impacts associated with the Proposed Action.

The PEA analyzed the direct, indirect, and cumulative impacts of the two Proposed Action Alternatives and the No-Action Alternative on the following nine resource areas: air quality; biological resources; cultural resources; soils; land use; socioeconomics; traffic and transportation; infrastructure and utilities; and water resources. The PEA concluded the impacts at all assessed installations would be either less than significant or significant but mitigable. Impacts will be minimized through avoidance of sensitive resources and through implementation of environmental protection measures.

When planning how to execute an MDTF stationing decision, installations will complete a PEA checklist to determine what type of additional, site-specific NEPA analysis—if any—is required. If an installation determines the stationing of a particular MDTF will require additional NEPA analysis (i.e., analysis “tiered” from the PEA), the installation is required to complete the appropriate NEPA analysis before making any irreversible or irretrievable commitments related to the stationing action.

Members of the general public, federally recognized Native American Tribes, Native Alaskan Entities, or Native Hawaiian Organizations, and federal, state, and local agencies are invited to submit written comments regarding the PEA and/or the draft FONSI. The PEA and the draft FONSI can be accessed on the U.S. Army Environmental Command NEPA Documents page at: https://aec.army.mil/index.php?cID=352. If you cannot access the documents online, please submit a request to: U.S. Army Environmental Command, ATTN: Public Affairs, 2455 Reynolds Road, Mail Stop 112, JBSA-Fort Sam Houston, TX 78234-7588. You can also email a request to: usarmy.jbsa.imcom-aec.mbx.nepa@army.mil.

James Satterwhite Jr.,
U.S. Army Federal Register Liaison Officer.

[FR Doc. 2022-13288 Filed 6-21-22; 8:45 am]

BILLING CODE 3711-02-P